DEPARTMENT OF COMMERCE

Bureau of the Census

[Docket Number 020723173-2173-01]

RIN 0607-ZA05

Voting Rights Act Amendments of 1992, Determinations Under Section 203

AGENCY: Bureau of the Census, Commerce.

ACTION: Notice of determination.

SUMMARY: The notice's purpose is to publish the Bureau of the Census (Census Bureau) Director's determination as to which political subdivisions are subject to the minority language assistance provisions of Section 203 of the Voting Rights Act.

EFFECTIVE DATE: July 26, 2002.

FOR FURTHER INFORMATION CONTACT: For information regarding this notice, please contact Ms. Catherine M. McCully, Chief, Census Redistricting Data Office, Bureau of the Census, U.S. Department of Commerce, Federal Building 3, Room 3631, 301-457-4039.

For information regarding the statutory provisions, enforcement, or compliance, contact Mr. Joseph D. Rich, Chief, Voting Section-NWB, Civil Rights Division, U.S. Department of Justice, 950 Pennsylvania Avenue, NW., Washington, DC 20530, 1-800-253-3931 or 202-307-2767, or visit the Voting Section Internet site at <www.usdoj.gov.crt/voting>.

SUPPLEMENTARY INFORMATION: In August 1992, Congress amended the Voting Rights Act of 1965, Title 42, United States Code, 1973 et seq. (See Public Law 102-344.) Among other changes, the minority language assistance provision set forth in Section 203 of the Act was extended to August 6, 2007. Section 203 mandates that a state or political subdivision must provide language assistance to voters if more than 5 percent of the voting age citizens are members of a single-language minority group who do not “speak or understand English adequately enough to participate in the electoral process” and if the rate of those citizens who have not completed the fifth grade is higher than the national rate of voting age citizens who have not completed the fifth grade. When a state is covered for a particular language minority group, an exception is made for any political subdivision in which less than 5 percent of the voting age citizens are members of the minority group and are limited in English proficiency, unless the political subdivision is covered independently. A political subdivision also is covered if more than 10,000 of the voting age citizens are members of a single-language minority group, do not “speak or understand English adequately enough to participate in the electoral process,” and the rate of those citizens who have not completed the fifth grade is higher than the national rate of voting age citizens who have not completed the fifth grade.

Finally, if more than 5 percent of the American Indian or Alaska Native voting age citizens residing within an American Indian Reservation (and off-reservation trust lands) are members of a single language minority group, do not “speak or understand English adequately enough to participate in the electoral process,” and the rate of those citizens who have not completed the fifth grade is higher than the national rate of voting age citizens who have not completed the fifth grade, any political subdivision, such as a county, which contains all or any part of that Indian reservation, is covered by the minority language assistance provision set forth in Section 203. An American Indian Reservation is defined as any area that is an American Indian or Alaska Native area identified for purposes of the decennial census. For Census 2000, these areas were identified by the federally-recognized tribal governments, Bureau of Indian Affairs, and state governments. The Census Bureau worked with American Indian tribes and Alaska Natives to identify statistical areas, such as Oklahoma Tribal Statistical Areas, State-Designated American Indian Statistical Areas, and Alaska Native Village Statistical Areas.

Pursuant to Section 203, the Census Bureau Director has the responsibility to determine which states and political subdivisions are subject to the minority language assistance provisions of Section 203. The states and political subdivisions obligated to comply with the requirements are listed in the attachment.

Section 203 also provides that “determinations of the Director of the Census under this subsection shall be effective upon publication in the Federal Register and shall not be subject to review in any court.” Therefore, as of this date, those jurisdictions that are listed as covered by Section 203 have a legal obligation to provide the minority language assistance prescribed by Section 203 of the Act. In the cases where a state is identified as covered, those counties or county equivalents not displayed in the attachment are exempt from the obligation. Those jurisdictions subject to Section 203 of the Act previously, but not included on the list below, are no longer obligated to comply with Section 203. The previous determinations under Section 4(f)(4) of the Voting Rights Act remain in effect and are unaffected by this determination. (See Title 28, Code of Federal Regulations, Part 55, Appendix.)

Dated: July 22, 2002.
Charles Louis Kincannon,
Director, Bureau of the Census.

Covered Areas for Voting Rights Bilingual Election Materials—2000
State and political subdivision | Group
Alaska:
Aleutians West Census Area | Aleut.
Bethel Census Area | Eskimo.
Bethel Census Area | American Indian (Tribe not specified).
Bethel Census Area | American Indian (Other Tribe specified).
Denali Borough | Athabascan.
Dillingham Census Area | Eskimo.
Dillingham Census Area | American Indian (Other Tribe specified).
Dillingham Census Area | Native (Other Group specified).
Kenai Peninsula Borough | American Indian (Tribe not specified).
Kenai Peninsula Borough | Aleut.
Kodiak Island Borough | Filipino.
Lake and Peninsula Borough | Athabascan.
Lake and Peninsula Borough | Aleut.
Lake and Peninsula Borough | Eskimo.
Nome Census Area | Eskimo.
North Slope Borough | American Indian (Tribe not specified).
North Slope Borough | Eskimo.
Northwest Arctic Borough | Eskimo.
Northwest Arctic Borough | Alaska Native (Other Group specified).
Southeast Fairbanks Census Area | Athabascan.
Southeast Fairbanks Census Area | Native (Other Group specified).
Valdez-Cordova Census Area | Athabascan.
Wade Hampton Census Area | Eskimo.
Wade Hampton Census Area | American Indian (Chickasaw).
Wade Hampton Census Area | American Indian (Tribe not specified).
Yukon-Koyukuk Census Area | Athabascan.
Yukon-Koyukuk Census Area | Eskimo.
Yukon-Koyukuk Census Area | American Indian (Other Tribe specified).
Arizona:
Apache County | American Indian (Apache).
Apache County | American Indian (Navajo).
Apache County | American Indian (Pueblo).
Cochise County | Hispanic.
Coconino County | American Indian (Navajo).
Coconino County | American Indian (Pueblo).
Gila County | American Indian (Apache).
Graham County | American Indian (Apache).
Greenlee County | Hispanic.
Maricopa County | Hispanic.
Maricopa County | American Indian (Tohono O'Odham).
Navajo County | American Indian (Apache).
Navajo County | American Indian (Navajo).
Navajo County | American Indian (Pueblo).
Pima County | Hispanic.
Pima County | American Indian (Tohono O'Odham).
Pima County | American Indian (Yaqui).
Pinal County | American Indian (Apache).
Pinal County | American Indian (Tohono O'Odham).
Santa Cruz County | Hispanic.
Yuma County | Hispanic.
Yuma County | American Indian (Yuman).
California:
State Coverage | Hispanic.
Alameda County | Hispanic.
Alameda County | Chinese.
Colusa County | Hispanic.
Contra Costa County | Hispanic.
Fresno County | Hispanic.
Imperial County | Hispanic.
Imperial County | American Indian (Central or South American).
Imperial County | American Indian (Yuman).
Kern County | Hispanic.
Kings County | Hispanic.
Los Angeles County | Hispanic.
Los Angeles County | Chinese.
Los Angeles County | Filipino.
Los Angeles County | Japanese.
Los Angeles County | Korean.
Los Angeles County | Vietnamese.
Madera County | Hispanic.
Merced County | Hispanic.
Monterey County | Hispanic.
Orange County | Hispanic.
Orange County | Chinese.
Orange County | Korean.
Orange County | Vietnamese.
Riverside County | Hispanic.
Riverside County | American Indian (Central or South American).
Sacramento County | Hispanic.
San Benito County | Hispanic.
San Bernardino County | Hispanic.
San Diego County | Hispanic.
San Diego County | Filipino.
San Francisco County | Hispanic.
San Francisco County | Chinese.
San Joaquin County | Hispanic.
San Mateo County | Hispanic.
San Mateo County | Chinese.
Santa Barbara County | Hispanic.
Santa Clara County | Hispanic.
Santa Clara County | Chinese.
Santa Clara County | Filipino.
Santa Clara County | Vietnamese.
Stanislaus County | Hispanic.
Tulare County | Hispanic.
Ventura County | Hispanic.
Colorado:
Alamosa County | Hispanic.
Conejos County | Hispanic.
Costilla County | Hispanic.
Crowley County | Hispanic.
Denver County | Hispanic.
La Plata County | American Indian (Navajo).
La Plata County | American Indian (Ute).
Montezuma County | American Indian (Navajo).
Montezuma County | American Indian (Ute).
Otero County | Hispanic.
Rio Grande County | Hispanic.
Saguache County | Hispanic.
Connecticut:
Bridgeport town (Fairfield County) | Hispanic.
Hartford town (Hartford County) | Hispanic.
Meriden town (New Haven County) | Hispanic.
New Britain town (Hartford County) | Hispanic.
New Haven town (New Haven County) | Hispanic.
Waterbury town (New Haven County) | Hispanic.
Windham town (Windham County) | Hispanic.
Florida:
Broward County | Hispanic.
Broward County | American Indian (Seminole).
Collier County | American Indian (Seminole).
Glades County | American Indian (Seminole).
Hardee County | Hispanic.
Hendry County | Hispanic.
Hillsborough County | Hispanic.
Miami-Dade County | Hispanic.
Orange County | Hispanic.
Osceola County | Hispanic.
Palm Beach County | Hispanic.
Hawaii:
Honolulu County | Chinese.
Honolulu County | Filipino.
Honolulu County | Japanese.
Maui County | Filipino.
Idaho:
Bannock County | American Indian (Other Tribe specified).
Bingham County | American Indian (Other Tribe specified).
Caribou County | American Indian (Other Tribe specified).
Owyhee County | American Indian (Other Tribe specified).
Power County | American Indian (Other Tribe specified).
Illinois:
Cook County | Hispanic.
Cook County | Chinese.
Kane County | Hispanic.
Kansas:
Finney County | Hispanic.
Ford County | Hispanic.
Grant County | Hispanic.
Haskell County | Hispanic.
Kearny County | Hispanic.
Seward County | Hispanic.
Louisiana: Allen Parish | American Indian (Other Tribe specified).
Maryland: Montgomery County | Hispanic.
Massachusetts:
Boston city (Suffolk County) | Hispanic.
Chelsea city (Suffolk County) | Hispanic.
Holyoke city (Hampden County) | Hispanic.
Lawrence city (Essex County) | Hispanic.
Southbridge town (Worcester County) | Hispanic.
Springfield city (Hampden County) | Hispanic.
Michigan: Clyde township (Allegan County) | Hispanic.
Mississippi:
Attala County | American Indian (Choctaw).
Jackson County | American Indian (Choctaw).
Jones County | American Indian (Choctaw).
Kemper County | American Indian (Choctaw).
Leake County | American Indian (Choctaw).
Neshoba County | American Indian (Choctaw).
Newton County | American Indian (Choctaw).
Scott County | American Indian (Choctaw).
Winston County | American Indian (Choctaw).
Montana:
Big Horn County | American Indian (Cheyenne).
Rosebud County | American Indian (Cheyenne).
Nebraska:
Colfax County | Hispanic.
Sheridan County | American Indian (Sioux).
Nevada:
Clark County | Hispanic.
Elko County | American Indian (Other Tribe specified).
Elko County | American Indian (Shoshone).
Humboldt County | American Indian (Other Tribe specified).
Lyon County | American Indian (Paiute).
Nye County | American Indian (Shoshone).
White Pine County | American Indian (Shoshone).
New Jersey:
Bergen County | Hispanic.
Cumberland County | Hispanic.
Essex County | Hispanic.
Hudson County | Hispanic.
Middlesex County | Hispanic.
Passaic County | Hispanic.
Union County | Hispanic.
New Mexico:
State Coverage | Hispanic.
Bernalillo County | Hispanic.
Bernalillo County | American Indian (Navajo).
Bernalillo County | American Indian (Pueblo).
Catron County | American Indian (Pueblo).
Chaves County | Hispanic.
Cibola County | American Indian (Navajo).
Cibola County | American Indian (Pueblo).
De Baca County | Hispanic.
Dona Ana County | Hispanic.
Eddy County | Hispanic.
Grant County | Hispanic.
Guadalupe County | Hispanic.
Harding County | Hispanic.
Hidalgo County | Hispanic.
Lea County | Hispanic.
Luna County | Hispanic.
McKinley County | American Indian (Navajo).
McKinley County | American Indian (Pueblo).
Mora County | Hispanic.
Rio Arriba County | Hispanic.
Rio Arriba County | American Indian (Navajo).
Roosevelt County | Hispanic.
San Juan County | American Indian (Navajo).
San Juan County | American Indian (Ute).
San Miguel County | Hispanic.
Sandoval County | American Indian (Navajo).
Sandoval County | American Indian (Pueblo).
Santa Fe County | Hispanic.
Santa Fe County | American Indian (Pueblo).
Socorro County | Hispanic.
Socorro County | American Indian (Navajo).
Socorro County | American Indian (Pueblo).
Taos County | Hispanic.
Taos County | American Indian (Pueblo).
Torrance County | Hispanic.
Union County | Hispanic.
Valencia County | Hispanic.
Valencia County | American Indian (Pueblo).
New York:
Bronx County | Hispanic.
Kings County | Hispanic.
Kings County | Chinese.
Nassau County | Hispanic.
New York County | Hispanic.
New York County | Chinese.
Queens County | Hispanic.
Queens County | Chinese.
Queens County | Korean.
Suffolk County | Hispanic.
Westchester County | Hispanic.
North Dakota:
Richland County | American Indian (Sioux).
Sargent County | American Indian (Sioux).
Oklahoma:
Harmon County | Hispanic.
Texas County | Hispanic.
Oregon: Malheur County | American Indian (Other Tribe specified).
Pennsylvania: Philadelphia County | Hispanic.
Rhode Island:
Central Falls city (Providence County) | Hispanic.
Providence city (Providence County) | Hispanic.
South Dakota:
Bennett County | American Indian (Sioux).
Codington County | American Indian (Sioux).
Day County | American Indian (Sioux).
Dewey County | American Indian (Sioux).
Grant County | American Indian (Sioux).
Gregory County | American Indian (Sioux).
Haakon County | American Indian (Sioux).
Jackson County | American Indian (Sioux).
Lyman County | American Indian (Sioux).
Marshall County | American Indian (Sioux).
Meade County | American Indian (Sioux).
Meade County | American Indian (Cheyenne).
Mellette County | American Indian (Sioux).
Roberts County | American Indian (Sioux).
Shannon County | American Indian (Sioux).
Stanley County | American Indian (Sioux).
Todd County | American Indian (Sioux).
Tripp County | American Indian (Sioux).
Ziebach County | American Indian (Sioux).
Texas:
State Coverage | Hispanic.
Andrews County | Hispanic.
Atascosa County | Hispanic.
Bailey County | Hispanic.
Bee County | Hispanic.
Bexar County | Hispanic.
Borden County | Hispanic.
Brewster County | Hispanic.
Brooks County | Hispanic.
Caldwell County | Hispanic.
Calhoun County | Hispanic.
Cameron County | Hispanic.
Castro County | Hispanic.
Cochran County | Hispanic.
Concho County | Hispanic.
Crane County | Hispanic.
Crockett County | Hispanic.
Crosby County | Hispanic.
Culberson County | Hispanic.
Dallas County | Hispanic.
Dawson County | Hispanic.
Deaf Smith County | Hispanic.
DeWitt County | Hispanic.
Dimmit County | Hispanic.
Duval County | Hispanic.
Ector County | Hispanic.
Edwards County | Hispanic.
El Paso County | Hispanic.
El Paso County | American Indian (Pueblo).
Fisher County | Hispanic.
Floyd County | Hispanic.
Frio County | Hispanic.
Gaines County | Hispanic.
Garza County | Hispanic.
Glasscock County | Hispanic.
Goliad County | Hispanic.
Gonzales County | Hispanic.
Guadalupe County | Hispanic.
Hale County | Hispanic.
Hall County | Hispanic.
Hansford County | Hispanic.
Harris County | Hispanic.
Harris County | Vietnamese.
Hidalgo County | Hispanic.
Hockley County | Hispanic.
Howard County | Hispanic.
Hudspeth County | Hispanic.
Irion County | Hispanic.
Jeff Davis County | Hispanic.
Jim Hogg County | Hispanic.
Jim Wells County | Hispanic.
Karnes County | Hispanic.
Kenedy County | Hispanic.
Kinney County | Hispanic.
Kleberg County | Hispanic.
Knox County | Hispanic.
Lamb County | Hispanic.
La Salle County | Hispanic.
Live Oak County | Hispanic.
Loving County | Hispanic.
Lubbock County | Hispanic.
Lynn County | Hispanic.
Madison County | Hispanic.
Martin County | Hispanic.
Matagorda County | Hispanic.
Maverick County | Hispanic.
Maverick County | American Indian (Other Tribe specified).
McMullen County | Hispanic.
Medina County | Hispanic.
Menard County | Hispanic.
Midland County | Hispanic.
Mitchell County | Hispanic.
Moore County | Hispanic.
Nolan County | Hispanic.
Nueces County | Hispanic.
Parmer County | Hispanic.
Pecos County | Hispanic.
Presidio County | Hispanic.
Reagan County | Hispanic.
Reeves County | Hispanic.
Refugio County | Hispanic.
Runnels County | Hispanic.
San Patricio County | Hispanic.
Schleicher County | Hispanic.
Scurry County | Hispanic.
Starr County | Hispanic.
Sterling County | Hispanic.
Sutton County | Hispanic.
Swisher County | Hispanic.
Tarrant County | Hispanic.
Terrell County | Hispanic.
Terry County | Hispanic.
Titus County | Hispanic.
Tom Green County | Hispanic.
Travis County | Hispanic.
Upton County | Hispanic.
Uvalde County | Hispanic.
Val Verde County | Hispanic.
Victoria County | Hispanic.
Ward County | Hispanic.
Webb County | Hispanic.
Wharton County | Hispanic.
Willacy County | Hispanic.
Wilson County | Hispanic.
Winkler County | Hispanic.
Yoakum County | Hispanic.
Zapata County | Hispanic.
Zavala County | Hispanic.
Utah:
San Juan County | American Indian (Navajo).
San Juan County | American Indian (Ute).
Washington:
Adams County | Hispanic.
Franklin County | Hispanic.
King County | Chinese.
Yakima County | Hispanic.

[FR Doc. 02-19033 Filed 7-24-02; 8:45 am]

BILLING CODE 3510-07-P